DEPARTMENT OF DEFENSE

Department of the Army

[Docket ID: USA-2008-0057]

Privacy Act of 1974; System of Records

AGENCY: Department of the Army, Department of Defense.

ACTION: Notice To Amend a System of Records.

SUMMARY: The Department of the Army is amending a system of records notice in its existing inventory of record systems subject to the Privacy Act of 1974, (5 U.S.C. 552a), as amended.

DATES: This proposed action will be effective without further notice on September 29, 2008, unless comments are received which result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: August 22, 2008.
Patricia L. Toppings,
OSD Federal Register Liaison Officer, Department of Defense.

0500-3 DCS

SYSTEM NAME:

Army Disaster Personnel Accountability and Assessment Records (ADPAAS) (July 25, 2008, 73 FR 43416).

CHANGES:

Change system ID to “A0500-3 DCS G-1.”

* * * * *

A0500-3 DCS G-1

SYSTEM NAME:

Army Disaster Personnel Accountability and Assessment Records (ADPAAS).

SYSTEM LOCATION:

Space and Naval Warfare Systems Center, 53560 Hull Street, San Diego, CA 92152-5001.

CATEGORIES OF INDIVIDUALS COVERED BY THE SYSTEM:

Army personnel (Military, Civilian, and National Guard) and their families who are involved in a natural or other man-made disaster; catastrophic event; or in support of the Global War on Terrorism.

CATEGORIES OF RECORDS IN THE SYSTEM:

ADPAAS Personnel Accountability and Needs Assessment Survey information that includes name; home and duty stations addresses; Social Security Number (SSN); home, business, and cell telephone numbers; military/civilian status; date of birth; Unit Identification Code (UIC); Electronic Data Interchange—Personal Identifier (EDI-PI); date of last contact; insurance company; Federal Emergency Management Agency (FEMA) Number; e-mail address; dependent information; travel orders/vouchers; assessment date; needs assessment information; type of event; category classification; and related information.

AUTHORITY FOR MAINTENANCE OF THE SYSTEM:

10 U.S.C. 5013, Secretary of the Army; DoD Instruction 3001.02, Personnel Accountability in Conjunction With Natural or Man-made Disasters; Army Regulation 500-3, U.S. Army Continuity of Operations Program Policy and Planning; and E.O. 9397 (SSN).

PURPOSE(S):

To assess disaster-related needs (i.e., status of family members, housing, medical, financial assistance, employment, pay and benefits, transportation, child care, pastoral care/counseling, and general legal matters) of Army personnel (Military, Civilian, and National Guard) and their families who have been involved in a natural or man-made major disaster or catastrophic event. To continue to maintain contact with the family members to ensure they receive all necessary support/assistance.

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of the Army's compilation of systems of records notices also apply to this system.

POLICIES AND PRACTICES FOR STORING, RETRIEVING, ACCESSING, RETAINING, AND DISPOSING OF RECORDS IN THE SYSTEM:

STORAGE:

Electronic storage media.

RETRIEVABILITY:

Name, Social Security Number (SSN) and date of birth.

SAFEGUARDS:

Password controlled system, file, and element access is based on predefined need-to-know. Physical access to terminals, terminal rooms, buildings and activities' grounds are controlled by locked terminals and rooms, guards, personnel screening and visitor registers.

RETENTION AND DISPOSAL:

Event and recovery assistance records are destroyed two years after all actions are completed.

SYSTEM MANAGER(S) AND ADDRESS:

Deputy Chief of Staff, HQDA G-1, ATTN: DAPE-MPZ-PC, 300 Army Pentagon, Washington, DC 20310-0400.

NOTIFICATION PROCEDURE:

Individuals seeking to determine whether this system of records contains information about themselves should address written inquiries to the Deputy Chief of Staff, HQDA G-1, ATTN: HQDA DAPE-MPZ-PC, 300 Army Pentagon, Washington, DC 20310-0400.

The request should include individual's full name, Social Security Number (SSN), address, date of birth, and signature.

RECORD ACCESS PROCEDURES:

Individuals seeking access to records about themselves contained in this system of records should address written inquiries to the Deputy Chief of Staff, HQDA G-1, ATTN: HQDA DAPE-MPZ-PC, 300 Army Pentagon, Washington, DC 20310-0400.

The request should include individual's full name, Social Security Number (SSN), address, date of birth, and signature.

CONTESTING RECORD PROCEDURES:

The Army's rules for accessing records, and for contesting contents and appealing initial agency determinations are contained in Army Regulation 340-21; 32 CFR part 505; or may be obtained from the system manager.

RECORD SOURCE CATEGORIES:

Individual; personnel files; Needs Assessment Survey; Defense Manpower Data Center; and command personnel.

EXEMPTIONS CLAIMED FOR THE SYSTEM:

None.

[FR Doc. E8-20007 Filed 8-27-08; 8:45 am]

BILLING CODE 5001-06-P